DEPARTMENT OF EDUCATION

[Docket No. ED-2021-SCC-0053]

Agency Information Collection Activities; Submission to the Office of Management and Budget for Review and Approval; Comment Request; High School and Beyond 2022 (HS&B:22) Base-Year Full-Scale Study Data Collection and First Follow-Up Field Test Sampling, Tracking, and Recruitment

AGENCY: Institute of Educational Sciences (IES), Department of Education (ED).

ACTION: Notice.

SUMMARY: In accordance with the Paperwork Reduction Act of 1995, ED is proposing an extension without change of a currently approved collection.

DATES: Interested persons are invited to submit comments on or before July 7, 2021.

ADDRESSES: Written comments and recommendations for proposed information collection requests should be sent within 30 days of publication of this notice to follow/public/do/PRAMain. Find this information collection request by selecting “Department of Education” under “Currently Under Review,” then check “Only Show ICR for Public Comment” checkbox. Comments may also be sent to ICDocketmgr@ed.gov.

FOR FURTHER INFORMATION CONTACT: For specific questions related to collection activities, please contact Carrie Clarady, 202-245-6347.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: High School and Beyond 2022 (HS&B:22) Base-Year Full-Scale Study Data Collection and First Follow-up Field Test Sampling, Tracking, and Recruitment.

OMB Control Number: 1850-0944.

Type of Review: An extension without change of a currently approved collection.

Respondents/Affected Public: Individuals and Households.

Total Estimated Number of Annual Responses: 128,478.

Total Estimated Number of Annual Burden Hours: 53,930.

Abstract: The High School and Beyond 2022 study (HS&B:22) will be the sixth in a series of longitudinal studies at the high school level conducted by the National Center for Education Statistics (NCES), within the Institute of Education Sciences (IES) of the U.S. Department of Education. HS&B:22 will follow a nationally representative sample of ninth grade students from the start of high school in the fall of 2022 to the spring of 2026 when most will be in twelfth grade. A field test was conducted in fall 2019. The study sample will be freshened in 2026 to create a nationally representative sample of twelfth-grade students. A high school transcript collection and additional follow-up data collections beyond high school are also planned.

In preparation for the HS&B:22 Base-Year Full-Scale study (BYFS), scheduled to take place in the fall of 2022, the Office of Management and Budget (OMB) approved (OMB# 1850-0944 v.1-5) a request to conduct the HS&B:22 Base-Year Field Test (BYFT) and the BYFS sampling and state, school district, school, and parent recruitment activities, both of which began in the fall of 2019. These activities include collecting student rosters and selecting the BYFS sample. BYFT activities ended in December 2019.

The study initially planned to conduct its BYFS data collection in the fall of 2020. Due to the COVID-19 pandemic, it was decided to postpone this collection by two years. OMB provided approval to adjust the schedule in June 2020, October 2020, and January 2021 (OMB# 1850-0944 v.6-8). The base year full-scale data collection will now take place in fall 2022. This submission requests approval to (1) freshen the school sample to account for the two-year delay after the sample was drawn; (2) add survey items related to the COVID-19 pandemic to the surveys; (3) track the field test sample; and (4) begin sampling and recruitment activities for the first follow-up field test. For the field test follow-up, students who participated in the base year field test will be tracked to inform the main study, but the field test follow-up data collection will occur one year later with a new sample of twelfth grade students.

Part A of this submission presents information on the basic design of HS&B:22. Part B discusses the statistical methods employed. Part C presents justification for the questionnaire content. Appendix A provides the communication materials to be used during state, school district, school, and parent BYFS recruitment and data collection activities. Appendix B provides the full-scale data collection instruments.

Dated: June 2, 2021.
Juliana Pearson,
PRA Coordinator, Strategic Collections and Clearance, Governance and Strategy Division, Office of Chief Data Officer, Office of Planning, Evaluation and Policy Development.

[FR Doc. 2021-11860 Filed 6-4-21; 8:45 am]

BILLING CODE 4000-01-P